NATIONAL COUNCIL ON DISABILITY

Sunshine Act Meetings

TIME AND DATES: The Members of the National Council on Disability (NCD) will hold a quarterly meeting on Thursday, July 23, 2015, 9:00 a.m.-4:30 p.m. (Eastern Daylight Time), and on Friday, July 24, 2015, 9:00 a.m.-12:30 p.m. (Eastern Daylight Time) in Washington, DC.

PLACE: This meeting will occur in Washington, DC, at the Access Board Conference Room, 1331 F Street NW., Suite 800, Washington, DC 20004. Interested parties are welcome to join in person or by phone in a listening-only capacity (other than the period allotted for by-phone public comment on Friday, July 24) using the following call-in number: 888-523-1225; Conference ID: 7629517; Conference Title: NCD Meeting; Host Name: Jeff Rosen.

MATTERS TO BE CONSIDERED: The Council will receive reports from its standing committees; release its annual Progress Report; review and vote on proposed policy projects for FY16 and FY17; discuss updates on the rights of parents with disabilities; host a discussion on emerging technologies; and receive public comment focused on future directions in technology policy.

AGENDA: The times provided below are approximations for when each agenda item is anticipated to be discussed (all times Eastern):

Thursday, July 23

9:00-10:15 a.m.—Call to Order, Standing Committee Reports

10:15-11:15 a.m.—Release of the NCD Progress Report and Discussion Panel

11:15 a.m.-12:00 p.m.—Remarks by Maria Town, Associate Director for Public Engagement, The White House (tentative)

12:00-12:30 p.m.—Impact of the ADA in American Communities 2025

12:30-1:30 p.m.—Lunch Break

1:30-2:00 p.m.—Discussion of Proposed Changes to Congressional Justification

2:00-3:00 p.m.—Council Presentations of Proposed FY16, FY17 Policy Projects

3:00-3:15 p.m.—Break

3:15-4:30 p.m.—Continuation of Presentations and Vote

4:30 p.m.—Adjournment

Friday, July 24

9:00-10:15 a.m.—Civil Rights of Parents with Disabilities Discussion

10:15-11:45 a.m.—Accessibility in Emerging Technologies Discussion

11:45 a.m.-12:30 p.m.—Public Comment (Note: Comments received will be limited to those regarding future directions in technology policy.)

12:30 p.m.—Adjournment

Public Comment: To better facilitate NCD's public comment, any individual interested in providing public comment is asked to register his or her intent to provide comment in advance by sending an email to PublicComment@ncd.gov with the subject line “Public Comment” with your name, organization, state, and topic of comment included in the body of your email. Full-length written public comments may also be sent to that email address. All emails to register for public comment at the quarterly meeting must be received by Wednesday, July 22, 2015. Priority will be given to those individuals who are in-person to provide their comments. Those commenters on the phone will be called on according to the list of those registered via email. Due to time constraints, NCD asks all commenters to limit their comments to three minutes. Comments received at the July quarterly meeting will be limited to those regarding future directions in technology policy.

Contact Person: Anne Sommers, NCD, 1331 F Street NW., Suite 850, Washington, DC 20004; 202-272-2004 (V), 202-272-2074 (TTY).

Accommodations: A CART streamtext link has been arranged for this teleconference meeting. The web link to access CART on July 23, 2015 is http://www.streamtext.net/text.aspx?event=072315ncd900am; and on July 24, 2015 is http://www.streamtext.net/text.aspx?event=072415ncd900am.

Those who plan to attend the meeting in-person and require accommodations should notify NCD as soon as possible to allow time to make arrangements. To help reduce exposure to fragrances for those with multiple chemical sensitivities, NCD requests that all those attending the meeting in person refrain from wearing scented personal care products such as perfumes, hairsprays, and deodorants.

Dated: June 30, 2015.
Rebecca Cokley,
Executive Director.

[FR Doc. 2015-16559 Filed 7-1-15; 11:15 am]

BILLING CODE 8421-03-P